DEPARTMENT OF COMMERCE

National Ocean and Atmospheric Administration

Proposed Information Collection; Comment Request; Alaska Region Logbook Family of Forms

AGENCY: National Ocean and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 17, 2014.

ADDRESSES: Direct all written comments to Jennifer Jessup, Departmental Paperwork Clearance Officer, Department of Commerce, Room 6616, 14th and Constitution Avenue NW, Washington, DC 20230 (or via the Internet at JJessup@doc.gov).

FOR FURTHER INFORMATION CONTACT: Requests for additional information or copies of the information collection instrument and instructions should be directed to Patsy A. Bearden, (907) 586-7008, or patsy.bearden@noaa.gov.

SUPPLEMENTARY INFORMATION:

I. Abstract

The Magnuson-Stevens Fishery Conservation and Management Act 16 U.S.C. 1801 et seq. authorizes the North Pacific Fishery Management Council (Council) to prepare and amend fishery management plans for any fishery in waters under its jurisdiction. National Marine Fisheries Service, Alaska Region (NMFS) manages: (1) The crab fisheries in the Exclusive Economic Zone (EEZ) waters off the coast of Alaska under the Fishery Management Plan for Bering Sea and Aleutian Islands Crab; (2) groundfish under the Fishery Management Plan for the Groundfish Fishery of the Bering Sea and Aleutian Islands Management Area; and (3) groundfish under the Fishery Management Plan for Groundfish of the Gulf of Alaska. The International Pacific Halibut Commission (IPHC) and NMFS manage fishing for Pacific halibut (Hippoglossus stenolepis) through regulations established under the authority of the Northern Pacific Halibut Act of 1982. The IPHC promulgates regulations governing the halibut fishery under the Convention between the United States and Canada for the Preservation of the Halibut Fishery of the Northern Pacific Ocean and Bering Sea.

Vessels required to have a Federal Fisheries Permit (FFP) are issued free daily fishing logbooks (DFLs) for harvesters and daily cumulative production logbooks (DCPL) for processors to record groundfish, Crab Rationalization Program (CR) crab, Individual Fishing Quota (IFQ) halibut, IFQ sablefish, Western Alaska Community Development Quota Program (CDQ) halibut, and prohibited species catch (PSC) information. Catcher vessels under 60 ft (18.3 m) length overall are not required to maintain DFLs. Multiple self-copy logsheets within each logbook are available for distribution to the harvester, processor, observer program, and NOAA Fisheries Office for Law Enforcement. The longline or pot gear logbooks have an additional logsheet for submittal to the IPHC.

As electronic logbooks (eLogs) become available, paper logbooks are discontinued and removed from this collection. The forms and DFL and DCPL logsheets may be viewed on the NMFS Alaska Region Home Page at http://www.alaskafisheries.noaa.gov/rr/default.htm.

In addition to the logbooks, this collection includes the buying station report, check-in/out for shoreside processors, product transfer report, and U.S. vessel activity report.

II. Method of Collection

Paper logbooks and paper and electronic reports are required from participants. Methods of submittal include mail, Internet, and facsimile transmission of paper forms.

III. Data

OMB Control Number: 0648-0213.

Form Number(s): None.

Type of Review: Regular submission (extension of a current information collection).

Affected Public: Individuals or households; Business or other for-profit organizations.

Estimated Number of Respondents: 512.

Estimated Time per Response: 30 minutes per active response and 5 minutes inactive response for Catcher/processor Trawl Gear DCPL; 41 minutes per active response and 5 minutes per inactive response for Catcher/processor Longline and Pot Gear DCPL; 23 minutes for Buying Station Report; 5 minutes for Shoreside Processor Check-in/Check-out Report; 20 minutes for Product Transfer Report' and 14 minutes for Vessel Activity Report.

Estimated Total Annual Burden Hours: 12,068.

Estimated Total Annual Cost to Public: $23,218.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 10, 2014.
Gwellnar Banks,
Management Analyst, Office of the Chief Information Officer.

[FR Doc. 2014-22006 Filed 9-15-14; 8:45 am]

BILLING CODE 3510-22-P